FEDERAL RESERVE SYSTEM

Privacy Act of 1974; System of Records

Correction

In notice document 2020-27990 appearing on pages 83084-83086 in the issue of Monday, December 21, 2020, make the following correction:

(1) On page 83084, in the third column, in the DATES section, on line two, change “January 20, 2021” to read “January 21, 2021.”

(2) On page 83084, in the third column, in the DATES section, on line four, change “January 20, 2021” to read “January 21, 2021.”

[FR Doc. C1-2020-27990 Filed 1-12-21; 8:45 am]

BILLING CODE 1301-00-D